DEPARTMENT OF COMMERCE

Foreign-Trade Zones Board

[B-26-2016]

Foreign-Trade Zone (FTZ) 76—Bridgeport, Connecticut; Authorization of Production Activity; ASML US, Inc. (Optical, Metrology, and Lithography System Modules); Newtown and Wilton, Connecticut

On April 26, 2016, ASML US, Inc. submitted a notification of proposed production activity to the Foreign-Trade Zones (FTZ) Board for its facilities within Subzone 76A, in Newtown and Wilton, Connecticut.

The notification was processed in accordance with the regulations of the FTZ Board (15 CFR part 400), including notice in the Federal Register inviting public comment (81 FR 27085-27086, May 5, 2016). The FTZ Board has determined that no further review of the activity is warranted at this time. The production activity described in the notification is authorized, subject to the FTZ Act and the Board's regulations, including Section 400.14.

Dated: August 24, 2016.
Andrew McGilvray,
Executive Secretary.

[FR Doc. 2016-20843 Filed 8-29-16; 8:45 am]

BILLING CODE 3510-DS-P